DEPARTMENT OF HEALTH AND HUMAN SERVICES

Centers for Disease Control and Prevention

[60Day-23-23AA; Docket No. CDC-2022-0122]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a proposed information collection, as required by the Paperwork Reduction Act of 1995. This notice invites comment on a proposed information collection project titled DELTA Achieving Health Equity through Addressing Disparities (AHEAD) Cooperative Agreement Evaluation. This project aims to collect information from DELTA AHEAD recipients to assess implementation and program impact, and to further understand the facilitators, barriers, and other critical factors associated with program activities.

DATES: CDC must receive written comments on or before December 16, 2022.

ADDRESSES: You may submit comments, identified by Docket No. CDC-2022-0122 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

DELTA Achieving Health Equity through Addressing Disparities (AHEAD) Cooperative Agreement Evaluation—New—National Center for Injury Prevention and Control (NCIPC), Centers for Disease Control and Prevention (CDC).

Background and Brief Description

The goal of this project is to collect monitoring data for performance and implementation of the cooperative agreement: Domestic Violence Prevention Enhancement and Leadership Through Alliances (DELTA) Achieving Health Equity through Addressing Disparities (AHEAD). The Centers for Disease Control and Prevention (CDC) seeks OMB approval for three years for a new information collection request to collect information from 22 recipients (State Domestic Violence Coalitions) and all 32 sub-recipients (Coordinated Community Response Teams) funded through CDC's DELTA AHEAD Program cooperative agreement. CDC will collect information from DELTA AHEAD recipients as part of its program evaluation to assess the implementation and impact of the Notice of Funding Opportunity (NOFO) and further understand the facilitators, barriers, and critical factors to implement specific violence prevention strategies and conduct program evaluation activities.

Intimate Partner Violence (IPV) is a serious, yet preventable public health problem that affects millions of people in the United States each year. Data from CDC's 2015 National Intimate Partner and Sexual Violence Survey (NISVS) indicate that about one in four women and one in 10 men have experienced contact sexual violence, physical violence, and/or stalking by an intimate partner during their lifetime and reported some form of IPV-related impact. This form of violence disproportionately affects marginalized populations in the United States. Evidence suggests an increase in new cases and severity of IPV, particularly for marginalized groups, during the COVID-19 pandemic pointing to the need to adapt IPV prevention strategies during shutdowns and other national and global emergencies. Such disparities in the risk of IPV are created and maintained through systemic health and social inequities. To achieve health equity requires addressing root causes (e.g., discrimination and biases in societal values, public policy) that differentially disadvantage groups based on characteristics such as race, ethnicity, gender, and ability, and are often expressed as racism, sexism, and disability discrimination.

Information to be collected will provide crucial data for program performance monitoring and provide CDC with the capacity to respond in a timely manner to requests for information about the program from the Department of Health and Human Services (HHS), the White House, Congress, and other sources. Information to be collected will also strengthen CDC's ability to monitor awardee progress, provide data-driven technical assistance, and disseminate the most current surveillance data on unintentional and intentional injuries.

Monitoring the impact of population-based strategies and identifying new insights and innovative solutions to health problems are two of the noted public health activities that all public health systems should undertake. For NCIPC, these objectives cannot be satisfied without the systematic collection of data and information from state health departments. The information collection will enable the accurate, reliable, uniform, and timely submission to NCIPC of each awardee's progress report and injury indicators, including strategies and performance measures. Funded recipients are expected to use data to identify populations and environments at differential risk for violence due to inequitable access to conditions needed for health and safety. By increasing equitable access to Social Determinants of Health (SDOH), funded recipients reduce risk factors for and/or increase protective factors against IPV. Authorized by the Family Violence and Prevention Services Act (FVPSA), CDC has funded the DELTA Program since 2002. The DELTA program funds State Domestic Violence Coalitions (SDVCs) to implement statewide IPV prevention efforts and assist and fund local communities to do the same.

The information collection and reporting requirements have been carefully designed to align with and support the specific goals and outcomes outlined in the cooperative agreement. This funding opportunity includes two funding options. Category A recipients will have existing high capacity to implement primary prevention strategies and will build upon existing efforts. Category B recipients will focus on gathering publicly available data to better understand gaps in IPV prevention resources, building capacity to implement and evaluate IPV primary prevention in their state and selected communities, and using evaluation data for quality improvement.

Using recipients' annually submitted progress, outcomes, performance indicators, and related measures, CDC will aggregate and synthesize those data to inform the CDC evaluation of the cooperative agreement initiative across all recipients to capture program impact at the community and state levels, as well as performance monitoring and continuous program improvement. The CDC evaluation will inform and highlight the progress and achievements that recipients are making toward reducing IPV using community and societal level primary prevention approaches in addressing risk and protective factors.

CDC requests OMB approval for an estimated 962 annual burden hours. There are no costs to respondents other than their time to participate.

Estimated Annualized Burden Hours
Type of respondents | Form name | Number of respondents | Number of responses per respondent | Average burden per response (in hours) | Total burden (in hours)
DELTA AHEAD State Domestic Violence | Annual Performance Report | 22 | 4 | 10 | 880
Coalition (SDVC) Project Leads | Key Informant Interview—Project Lead | 22 | 2 | 30/60 | 22
DELTA AHEAD SDVC Evaluators | Key Informant Interview—Evaluator | 22 | 2 | 30/60 | 22
DELTA AHEAD SDVC staff | Prevention Infrastructure Assessment | 22 | 3 | 20/60 | 22
DELTA AHEAD Coordinated Community Response Team (CCRT) Staff | Sub-recipient Survey | 32 | 2 | 15/60 | 16
Total |  |  |  |  | 962

Jeffrey M. Zirger,
Lead, Information Collection Review Office, Office of Scientific Integrity, Office of Science, Centers for Disease Control and Prevention.

[FR Doc. 2022-22508 Filed 10-14-22; 8:45 am]

BILLING CODE 4163-18-P